DEPARTMENT OF THE INTERIOR

Fish and Wildlife Service

Endangered and Threatened Species Permit Applications

ACTION: Notice of receipt of applications.

SUMMARY: The following applicants have applied for a scientific research permit to conduct certain activities with endangered species pursuant to section 10(a)(1)(A) of the Endangered Species Act of 1973, as amended (16 U.S.C. 1531, et seq.).

Permit No. TE-048598

Applicant: Gary McDaniel, Spring Branch, Texas

Applicant requests a permit for presence/absence surveys and collection of the following karst invertebrates species in Bexar County, Texas: Helotes Mold Beetle (Batrisodes venyivi), Robber Baron Cave harvestman (Texella cokendolpheri), Madla's Cave spider (Cicurina madla), Robber Baron Cave spider (Cicurina baronia), Vesper Cave spider (Cicurina vespera), Government Canyon Cave spider (Neoleptoneta microps), as well as another cave spider (Cicurina venii) and two cave beetles (Rhadine exilis and Rhadine infernalis) that do not have common names. Applicant requests presence/absence surveys and collection of the following karst invertebrates species in Travis County, Texas: Kretschmarr Cave Mold beetle (Texamaurops reddelli), Tooth Cave Ground beetle (Rhadine persephone), Tooth Cave pseudoscorpion (Tartarocreagris texana), Bee Creek Cave harvestman (Texella reddelli), Bone Cave harvestman (Texella reyesi), and Tooth Cave spider (Neoleptoneta myopica). Applicant requests presence/absence surveys and collection of the following karst invertebrates species in Williamson County Texas: Coffin Cave Mold beetle (Batrisodes texanus), Tooth Cave Ground beetle (Rhadine persephone), and Bone Cave harvestman (Texella reyesi). Applicant also requests presence/absence surveys and collection for Peck's Cave amphipod (Stybobromus pecki) in Comal County, Texas and presence/absence surveys for Texas Blind Salamander (Typhlomolge rathbuni) in Hays County, Texas. There may be possible disturbance to the Mexican long-nosed bat (Leptonycteris nivalis) in Brewster County, Texas.

Permit No. TE-020661

Applicant: Janine Spencer, Prescott, Arizona.

Applicant requests an amendment to an existing permit to allow presence/absence surveys for the Black-footed ferret (Mustela nigripes) within New Mexico and Arizona.

Permit No. TE-048609

Applicant: Michael Rigney, Wickenburg, Arizona.

Applicant requests a permit for recovery purposes to conduct presence/absence surveys for the Southwestern willow flycatcher (Empidonax traillii extimus) within the Hassayampa River Preserve, Maricopa County, Arizona.

Permit No. TE-048464

Applicant: Joanne M. Kirchner, Sierra Vista, Arizona.

Applicant requests a permit for recovery purposes to conduct presence/absence surveys for the following species: Cactus ferruginous pygmy-owl (Glaucidium brasilianum cactorum), Lesser long-nosed bat (Leptonycteris curasoae yerbabuenae), Black-footed ferret (Mustela nigripes), and Yuma clapper rail Rallus longirostris yumanensis). Applicant also requests a permit to conduct presence/absence surveys, capture, band, and collect blood samples from the Mexican spotted owl (Strix occidentalis lucida). Further, applicant requests a permit to conduct presence/absence surveys, capture, band, nest monitor, and collect feathers from the Southwestern willow flycatcher (Empidonax traillii extimus). These activities will be conducted within Arizona.

Permit No. TE-048806

Applicant: U.S. Fish and Wildlife Service, Austwell, Texas.

Applicant requests a permit for individuals to possess and/or ship dead Whooping cranes or their parts, including eggs, feathers, semen and blood; capture, band, radio-tag, raise, breed, and administer health care to captive birds; and re-introduce and rehabilitate Whooping cranes (Grus americana) throughout North America from the Rocky Mountains to the east coast. This will be for the Whooping crane Recovery Program.

Permit No. TE-048579

Applicant: Kathlene Meadows, Tucson, Arizona.

Applicant requests a permit for recovery purposes to conduct presence/absence surveys for the Cactus ferruginous pygmy-owl (Glaucidium brasilianum cactorum) within Arizona.

Permit No. TE-048907

Applicant: Elizabeth Davis, San Marcos, Texas.

Applicant requests a permit to collect plant materials for research and recovery purposes from the Texas wild-rice plant (Zizania texana) within Texas.

DATES: Written comments on these permit applications must be received on or before November 23, 2001.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8 to 4:30) at the U.S. Fish and Wildlife Service, Albuquerque, New Mexico. Please refer to the respective permit number for each application when submitting comments. All comments received, including names and addresses, will become part of the official administrative record and may be made available to the public.

FOR FURTHER INFORMATION CONTACT: Chief, Endangered Species Division, Albuquerque, New Mexico, at the above address. Documents and other information submitted with these applications are available for review, subject to the requirements of the Privacy Act and Freedom of Information Act, by any party who submits a written request for a copy of such documents within 30 days of the date of publication of this notice, to the address above.

Steven M. Chambers,
Acting Assistant Regional Director, Ecological Services, Region 2, Albuquerque, New Mexico.

[FR Doc. 01-26745 Filed 10-23-01; 8:45 am]

BILLING CODE 4310-55-P